DEPARTMENT OF COMMERCE

National Oceanic and Atmospheric Administration

[I.D. 092105E]

Endangered Species; File No. 1541

AGENCY: National Marine Fisheries Service (NMFS), National Oceanic and Atmospheric Administration (NOAA), Commerce.

ACTION: Notice; issuance of permit.

SUMMARY: Notice is hereby given that Kristen M. Hart, Ph.D, United States Geologic Survey, Florida Integrated Science Center, Center for Coastal and Watershed Studies, has been issued a permit to take green (Chelonia mydas), Kemp's ridley (Lepidochelys kempii), loggerhead (Caretta caretta), and hawksbill (Eretmochelys imbricata) sea turtles for purposes of scientific research.

ADDRESSES: The permit and related documents are available for review upon written request or by appointment in the following office(s):

Permits, Conservation and Education Division, Office of Protected Resources, NMFS, 1315 East-West Highway, Silver Spring, MD 20910; phone (301)713-2289; fax (301)427-2521; and

Southeast Regional Office, Office of Protected Resources, NMFS, 263 13th Avenue South, St. Petersburg, FL 33701; phone (727) 824-5312; fax (727)824-5309.

FOR FURTHER INFORMATION CONTACT: Patrick Opay or Kate Swails, (301)713-2289.

SUPPLEMENTARY INFORMATION: On July 12, 2005, notice was published in the Federal Register (70 FR 40004) that a request for a scientific research permit to take green, Kemp's ridley, loggerhead, and hawksbill sea turtles had been submitted by the applicant. The requested permit has been issued under the authority of the Endangered Species Act of 1973, as amended (ESA; 16 U.S.C. 1531 et seq.) and the regulations governing the taking, importing, and exporting of endangered and threatened species (50 CFR parts 222-226).

Researchers will capture up to 106 green, 1 Kemp's ridley, 1 loggerhead, and 1 hawksbill sea turtles by tended pound-net or dip-net over the course of the three year permit. All turtles will be measured, weighed, blood sampled, flipper tagged, Passive Integrated Transponder tagged, fecal sampled if large enough, and released. All green turtles will be gastric lavaged. A subset of green turtles will also have a satellite transmitter or sonic and radio receivers attached to their carapace. The research will gather information on turtle habitat, genetic origin, size and age composition, species distribution, and health status. This information will be used to develop conservation management measures for these species. The research will occur in the waters of the Big Sable Creek complex in southwest Florida. The permit is issued for a 3-year period.

Issuance of this permit, as required by the ESA, was based on a finding that such permit (1) was applied for in good faith, (2) will not operate to the disadvantage of any endangered or threatened species, and (3) is consistent with the purposes and policies set forth in section 2 of the ESA.

Dated: November 10, 2005.
Stephen L. Leathery,
Chief, Permits, Conservation and Education Division, Office of Protected Resources, National Marine Fisheries Service.

[FR Doc. 05-22812 Filed 11-16-05; 8:45 am]

BILLING CODE 3510-22-S